DEPARTMENT OF ENERGY

Federal Energy Regulatory Commission

[Docket No. CP21-14-000]

Adelphia Gateway, LLC; Notice of Revised Schedule for Environmental Review of the Marcus Hook Electric Compression Project

This notice identifies the Federal Energy Regulatory Commission staff's revised schedule for the completion of the environmental impact statement (EIS) for Adelphia Gateway, LLC's Marcus Hook Electric Compression Project. The Notice of Intent to Prepare an Environmental Impact Statement for the Proposed Marcus Hook Electric Compression Project and Schedule for Environmental Review, issued on May 27, 2021, identified September 10, 2021 as the final EIS issuance date. However, we are modifying this issuance date based on comments received on the draft EIS and based on Adelphia Gateway, LLC's supplemental information filed on August 25, 2021 to address comments.

Schedule for Environmental Review

Issuance of the final EIS—October 1, 2021

90-day Federal Authorization Decision Deadline—December 30, 2021

If a schedule change becomes necessary, an additional notice will be provided so that the relevant agencies are kept informed of the project's progress.

Additional Information

In order to receive notification of the issuance of the EIS and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” (i.e., CP21-14), and follow the instructions. For assistance with access to eLibrary, the helpline can be reached at (866) 208-3676, TTY (202) 502-8659, or at FERCOnlineSupport@ferc.gov. The eLibrary link on the FERC website also provides access to the texts of formal documents issued by the Commission, such as orders, notices, and rule makings. This notice is issued and published in accordance with 18 CFR 2.1.

Dated: September 10, 2021.
Kimberly D. Bose,
Secretary.

[FR Doc. 2021-20002 Filed 9-15-21; 8:45 am]

BILLING CODE 6717-01-P